DEPARTMENT OF EDUCATION

[Docket ID: ED-2025-IES-0844]

Request for Information; Feedback on Redesigning the Institute of Education Sciences (IES)

AGENCY: Institute of Education Sciences (IES), U.S. Department of Education.

ACTION: Request for Information (RFI).

SUMMARY: The Education Sciences Reform Act of 2002 established the Institute of Education Sciences (IES) as the research, evaluation, and statistics arm of the U.S. Department of Education. IES is responsible for generating, disseminating, and promoting the use of rigorous evidence to improve education outcomes nationwide. IES is undertaking a comprehensive reexamination to ensure that its core functions—research, statistics, evaluation, and dissemination—are carried out in ways that maximize relevance, timeliness, and usability for the education stakeholders who rely on them. Specifically, the goal is to ensure that IES' high-quality work is translated in ways that inform teacher and practitioner practice and has a meaningful, positive impact on students' academic achievement and other outcomes. Through this RFI, we seek public input on how IES can modernize its programs, processes, and priorities to better serve the needs of the field and American students.

DATES: We must receive your comments on or before October 15, 2025.

ADDRESSES: Submit your response to this RFI through the Federal eRulemaking Portal at www.regulations.gov. We will not accept submissions by postal mail, commercial mail, hand delivery, fax, or email. To avoid duplicate submissions, please submit your comments only once and include the Docket ID at the top of your comments.

If you require an accommodation or cannot otherwise submit your comments via Regulations.gov, contact: regulationshelpdesk@gsa.gov or call 1-866-498-2945. For telecommunications relay services, dial 7-1-1.

Privacy Note: All comments will be made publicly available on the Federal eRulemaking Portal at www.regulations.gov. Do not include personally identifiable information (PII) about others. Comments containing PII or confidential business information may be redacted.

FOR FURTHER INFORMATION CONTACT: Amber Northern, Senior Advisor, Office of the Secretary, U.S. Department of Education, 400 Maryland Avenue SW, Washington, DC 20202. Telephone: (202) 251-0077. Email: IESfeedback@ed.gov.

SUPPLEMENTARY INFORMATION:

Background

The mission of the Institute of Education Sciences (IES), codified in 20 U.S.C. 9511(b)(1), is to: “Provide national leadership in expanding fundamental knowledge and understanding of education from early childhood through postsecondary study, in order to provide parents, educators, students, researchers, policymakers, and the general public with reliable information about, including the condition and progress of education in the United States, including early childhood education and special education; educational practices that support learning and improve academic achievement and access to educational opportunities for all students; and the effectiveness of Federal and other education programs.”

IES carries out its mission through four centers:

1. National Center for Education Statistics (NCES)—responsible for collecting and analyzing education-related data.

2. National Center for Education Research (NCER)—funds research that expands understanding of educational practices.

3. National Center for Special Education Research (NCSER)—focuses on improving outcomes for children with disabilities.

4. National Center for Education Evaluation and Regional Assistance (NCEE)—evaluates federal programs and supports Regional Educational Laboratories (RELs), What Works Clearinghouse (WWC), and technical assistance efforts.

IES is currently undergoing a comprehensive assessment to strengthen its structure, priorities, and operations. This effort seeks to align the priorities of IES more closely with current state and local education needs, reduce duplication of effort, and increase the speed at which evidence is produced and used.

Purpose of This RFI

This RFI invites specific suggestions on how IES can:

• Function more cohesively across its four centers to ensure shared goals drive data collection, research funding, and technical assistance.

• Better meet the needs of state and local leaders, educators, parents, researchers, and state education agencies.

• Improve the timeliness, accuracy, and accessibility of its statistics and research products.

• Maximize the utility of federal and other education program evaluations.

• Strengthen partnerships with other federal agencies or between state agencies to align data and reduce redundancy.

• Improve mechanisms for disseminating and scaling evidence-based practices, including the work of the RELs, WWC, and R&D Centers.

• Modernize its peer review, grantmaking, and contracting processes to encourage innovation while maintaining rigor.

Specific Areas of Interest

We especially welcome comments on how IES should:

1. Prioritize and streamline federal data collections to balance burden and benefit.

2. Leverage its grantmaking to advance impactful, practitioner-relevant research on pressing topics, with specific input on the identification of those topics.

3. Improve the reach and utility of evidence dissemination.

4. Support states and districts through more responsive technical assistance and capacity building, including building states' capacity for using evidence and creating a culture of continuous improvement.

Important Notes

• This is a request for information only. It is not a request for proposals (RFP), nor does it indicate a commitment to issue an RFP or make funding available.

• The Department will not provide direct responses to comments, nor will it return submitted materials.

• Submission of comments is voluntary and does not create any right or benefit, substantive or procedural, enforceable at law or in equity by any party against the Department.

Responses should be concrete and solution oriented.

Accessible Format

Upon request, individuals with disabilities can obtain this document in an accessible format (e.g., RTF, txt, thumb drive, MP3, braille, large print, audiotape, or compact disc) by contacting the program person listed above.

Electronic Access

The official version of this document is published in the Federal Register. To access it or related materials, visit:

• www.govinfo.gov (for the official Federal Register and Code of Federal Regulations)

• www.federalregister.gov (for search and PDF access)

Privacy Note: The Department's policy is to generally make all comments received from members of the public available for public viewing in their entirety on the Federal eRulemaking Portal at Regulations.gov. Therefore, commenters should be careful to include in their comments only information that they wish to make publicly available.

Matthew Soldner,
Acting IES Director, U.S. Department of Education.

[FR Doc. 2025-18608 Filed 9-24-25; 8:45 am]

BILLING CODE 4000-01-P